ENVIRONMENTAL PROTECTION AGENCY

[ER-FRL-8590-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080072, ERP No. D-IBR-J39038-C0, Southern Delivery System Project, Water Supply Development, Execution of up to 40-year Contracts for Use of Fryingpan-Arkansas Project Facilities, Special Use Permit, El Paso County, CO.

Summary: EPA raised environmental concerns about potential impacts to water quality, including the potential to exacerbate existing water quality impairments to water bodies within the Arkansas River Basin and the lack of mitigation for these impacts. EPA also raised concerns over the potential for increased flooding and erosion due to return flows into Fountain Creek. EPA strongly encouraged Reclamation to include mitigation commitments to offset the water quality impacts in the Final EIS and Record of Decision. Rating EC2.

EIS No. 20080333, ERP No. D-IBR-J39040-CO, Windy Gap Firming Project, Construct a New Water Storage Reservoir to Deliver Water to Front Range and West Slope Communities and Industries, Funding, NPDES and U.S. Army COE Section 404 Permit, Grand and Larimer Counties, CO.

Summary: EPA expressed environmental objections to this proposal because of the potential for the project to worsen water quality in already impaired waters without the assurance of adequate mitigation. EPA also requested additional information regarding impacts to water quality and stream morphology. Rating EO2.

EIS No. 20080343, ERP No. D-FRC-L03014-OR, Jordan Cove Energy and Pacific Connector Gas Pipeline Project, Construction and Operation, Liquefied Natural Gas (LNG) Import Terminal and Natural Gas Pipeline Facilities, Coos, Douglas, Jackson and Klamath Counties, OR.

Summary: EPA expressed environmental concerns about potential degradation of in-bay resources associated with the preferred alternative pipeline route identified in the DEIS and the level of analysis devoted to key resources. Rating EO2.

EIS No. 20080386, ERP No. D-COE-K39116-CA, San Pedro Waterfront Project, Proposed Specific Development Project and Associated Infrastructure Improvements on Approximately 400 Acres, Currently Operated by Los Angeles Harbor Department (LAHD), Located along the West Side of Los Angeles Harbor's Main Channel, from the Vincent Thomas Bridge to Cabrillo Beach, U.S. Army Section 10 and 404 and Section 103 Marine Protection, Research, and Sanctuaries Act Permits, (MPRSA) City of Los Angeles, CA.

Summary: EPA expressed environmental concerns about significant and unavoidable impacts to air quality and environmental justice communities, and planned ocean disposal of sediments. EPA recommended commitments to conduct an already planned port-wide health risk assessment, coordination with the environmental justice community to identify additional measures to offset health impacts, implementation of a port-wide health impacts assessment to inform mitigation, and identification of beneficial reuse opportunities for sediment. Rating EC2.

EIS No. 20080461, ERP No. D-FRC-B03007-00, Hubline/East to West Project, Proposes to Modify its Existing Natural Gas Transmission Pipeline System in MA, CT, RI and NJ.

Summary: EPA does not object to the proposed project. Rating LO.

EIS No. 20080462, ERP No. D-FRC-K03031-CA, South Feather Power Project, (Project No. 2088-068), Application to Relicense its 104-megawatt, South Fork Feather River, Lost Creek and Slate Creek, Butte, Yuba and Plumas Counties, CA.

Summary: EPA expressed environmental concerns about water quality and construction impacts, and requested additional information on the impacts of climate change on the project and the analysis of cumulative impacts. Rating EC2.

Dated: February 17, 2009.
Robert W. Hargrove,
Director, NEPA Compliance Division, Office of Federal Activities.

[FR Doc. E9-3661 Filed 2-19-09; 8:45 am]

BILLING CODE 6560-50-P